DEPARTMENT OF TRANSPORTATION

Federal Highway Administration

Environmental Impact Statement: King County Washington

AGENCY: Federal Highway Administration (FHWA), DOT.

ACTION: Notice of intent

SUMMARY: The FHWA, in cooperation with the Washington State Department of Transportation, is issuing this notice to advise the public that an environmental impact statement will be prepared for the proposal to either repair or replace the South Park Bridge, which crosses the Duwamish River in King County, Washington.

FOR FURTHER INFORMATION CONTACT: Elizabeth Healy, Transportation and Environmental Engineer, Federal Highway Administration, 711 South Capital Way, Suite 501, Olympia, Washington 98501-1284, Telephone: (360) 753-8655 or Jim Sussex, Environmental Engineer, King County, Road Services Division, Department of Transportation, King Street Center M.S. KSC-TR-0231, 201 South Jackson Street, Seattle, WA 98104-3856, Telephone: (206) 296-8737.

SUPPLEMENTARY INFORMATION: The FHWA, in cooperation with the Washington State Department of Transportation and the King County Department of Transportation, will prepare an environmental impact statement (EIS) on a proposal to either repair or replace the South Park Bridge, which spans the Duwamish River between 14th Avenue South and 16th Avenue South. The existing movable span bridge structure is owned jointly by King County and the City of Tukwila, and the bridge approaches extend into the City of Seattle. The bridge was built in 1931, using a Scherzer Rolling Lift double leaf bascule span, with steel truss and concrete approach spans on both sides. In spite of substantial ongoing maintenance and repairs, the bridge has suffered significant deterioration over the past 70 years. Damage that occurred during the Nisqually Earthquake of February 2001 has been repaired, but the bridge is increasingly vulnerable to future seismic events. The proposed project is necessary in order to implement a long-term solution to the deteriorated condition and the seismic vulnerability of the bridge. Specific alternatives for this project have not yet been developed. However, it is anticipated that approximately four build alternatives will be developed for analysis in the EIS, in addition to the no action alternative. The build alternatives may include: (1) Restoration of the existing bridge, (2) a movable span replacement bridge, and (3) a fixed span replacement bridge, The exact alignment and other significant design features may vary for each of these build alternatives, and variations may be different enough to warrant consideration as separate alternatives. Details regarding the number and character of these alternatives will be established through an extensive process of resource agency consultation and public involvement.

Scoping meetings will be held for the public and resource agencies during late February or early March 2002. A Project Advisory Committee (PAC) will be established to provide ongoing input from relevant government agencies and tribes. A Citizen Advisory Group (CAG) will be formed to provide additional involvement for representatives from neighborhood and business groups, as well as the public at large. A public hearing to gather public comments will be held after the draft EIS is issued and made available for public and agency review. The time and location of public meetings, when determined, will be announced in the local news media and public mailings.

Comments or questions concerning this proposed action and the EIS should be directed to the FHWA or King County at the addresses provided above.

(Catalog of Federal Domestic Assistance Program Number 20.205, Highway Research, Planning, and Construction. The regulations implementing Executive Order 12372 regarding intergovernmental consultation on Federal programs and activities apply to this program.)
Issued on: January 31, 2002.
Elizabeth Healy,
Transportation and Environmental Engineer, Olympia, Washington.

[FR Doc. 02-2922 Filed 2-6-02; 8:45 am]

BILLING CODE 4910-22-M